DEPARTMENT OF DEFENSE

Department of the Navy

Notice of Intent To Grant Exclusive Patent License; QUORA Semiconductor, Inc.

AGENCY: Department of the Navy, DoD.

ACTION: Notice.

SUMMARY: The Department of the Navy hereby gives notice of its intent to grant to QUORA Semiconductor, Inc., a revocable, nonassignable, exclusive license to practice in the field of use of optoelectronic devices, power devices, radio frequency power devices, multiple electronic devices, and multiple electronic devices with logic in the United States, the Government-owned inventions described in U.S. Patent No. 6,323,108: Fabrication of Ultra-Thin Bonded Semiconductor Layers, Navy Case No. 78,980.//U.S. Patent No. 6,328,796: Single Crystal Material on Non-Single Crystalline Substrate, Navy Case No. 78,978.//U.S. Patent No. 6,497,763: Electronic Device with Composite Substrate, Navy Case No. 82,672.//U.S. Patent No. 6,593,212: Method for Making Electro-Optical Devices Using a Hydrogen Ion Splitting Technique, Navy Case No. 79,639.//U.S. Patent No. 7,358,152: Wafer Bonding of Thinned Electronic Materials and Circuits to High Performance Substrate, Navy Case No. 84,023.//U.S. Patent No. 7,535,100: Wafer Bonding of Thinned Electronic Materials and Circuits to High Performance Substrates, Navy Case No. 84,023 and any continuations, divisionals or re-issues thereof.

DATES: Anyone wishing to object to the grant of this license must file written objections along with supporting evidence, if any, not later than July 13, 2015.

ADDRESSES: Written objections are to be filed with the Naval Research Laboratory, Code 1004, 4555 Overlook Avenue SW., Washington, DC 20375-5320.

FOR FURTHER INFORMATION CONTACT: Rita Manak, Head, Technology Transfer Office, NRL Code 1004, 4555 Overlook Avenue SW., Washington, DC 20375-5320, telephone 202-767-3083. Due to U.S. Postal delays, please fax 202-404-7920, email: rita.manak@nrl.navy.mil or use courier delivery to expedite response.

Authority: 35 U.S.C. 207, 37 CFR part 404.

Dated: June 19, 2015.
N.A. Hagerty-Ford,
Federal Register Liaison Officer, Commander, Judge Advocate General's Corps, U.S. Navy.

[FR Doc. 2015-15716 Filed 6-25-15; 8:45 am]

BILLING CODE 3810-FF-P